DEPARTMENT OF HEALTH AND HUMAN SERVICES

Centers for Disease Control and Prevention

HIV/AIDS Surveillance and Service Data Analysis in the Republic of Haiti Under the President's Emergency Plan for AIDS Relief (PEPFAR)

AGENCY: Centers for Disease Control and Prevention (CDC), Department of Health and Human Services (HHS).

ACTION: General notice; notice of expansion supplement award.

SUMMARY: The Centers for Disease Control and Prevention (CDC), located within the Department of Health and Human Services (HHS) announces intent to award additional expansion supplement funds to Centre pour le Development et la Sante (CDS) Cooperative Agreement Number PS001802 in the amount of $1,420,000.

FOR FURTHER INFORMATION CONTACT: Project Officer: Christen Suhr, Centers for Disease Control, Center for Global Health, Division of Global Health Protection, 3400 Port-au-Prince Place, Washington, DC 20521-3400 Email: DZE0@cdc.gov.

SUPPLEMENTARY INFORMATION: The purpose of this award is to build on the existing USAID-supported maternal and child health programs in Haiti, as well as on PEPFAR- and Global Fund-supported HIV services implemented in a network of five (5) facilities to: (1) Expand and strengthen integrated counseling and testing (CT), prevention of mother to child transmission (PMTCT), palliative care, TB/HIV, and laboratory services in all of these facilities, and (2) Expand and strengthen HIV services in the TB directly observed therapy, short-course (DOTS) clinics located in the North East Department currently supported by USAID and the Global Fund.

The funds solicited will ensure continuation of ongoing projects and clinical activities to support health systems growth and transiting to government ownership and oversight in Haiti including: HIV Voluntary Testing & Counseling, Primary Prevention of HIV/AIDS and Co-Infections, Prevention of Mother-to-Child Transmission (PMTCT), Pediatric Case Finding and Treatment Services, and Integrated HIV/TB Care & Treatment.

Initial award date 9/30/2009-9/29/2014; additional funds and time needed to carryout award 9/30/2014-9/30/2015. Project Number is CDC-RFA-PS09-917.

Dated: September 25, 2014.
Ron A. Otten,
Acting Deputy Associate Director for Science, Centers for Disease Control and Prevention.

[FR Doc. 2014-23351 Filed 9-30-14; 8:45 am]

BILLING CODE 4163-18-P